CORPORATION FOR NATIONAL AND COMMUNITY SERVICE

2 CFR Part 2200

45 CFR Parts 2541, 2542 and 2545

RIN 3045-AA48

Corporation for National and Community Service Implementation of OMB Guidance on Nonprocurement Debarment and Suspension

AGENCY: Corporation for National and Community Service.

ACTION: Direct final rule.

SUMMARY: The Corporation for National and Community Service is establishing a new part 2200 in 2 CFR as the Corporation's policies and procedures for nonprocurement debarment and suspension. The new part 2200 adopts and supplements the Office of Management and Budget's (OMB's) guidance in 2 CFR part 180. The Corporation for National and Community Service is also removing 45 CFR part 2542, which contains the Corporation's implementation of the governmentwide common rule on nonprocurement debarment and suspension. 2 CFR part 2200 will serve the same purpose as the common rule in a simpler way. These changes constitute an administrative simplification that would make no substantive change in Corporation's policies or procedures for nonprocurement debarment and suspension.

DATES: This final rule is effective on July 23, 2007 without further action, unless adverse comment is received by the Corporation for National and Community Service by June 22, 2007. If adverse comment is received, Corporation for National and Community Service will publish a timely withdrawal of the rule in the Federal Register.

ADDRESSES: You may submit comments by e-mail to dhilton@cns.gov. Include RIN 3045-AA48 in the subject line of the message. You may also submit comments by mail to Douglas H. Hilton, Office of the General Counsel, Corporation for National and Community Service, 1201 New York Avenue, NW., Washington, DC 20525. Contact Douglas H. Hilton for copies of comments.

FOR FURTHER INFORMATION CONTACT: Douglas H. Hilton, Associate General Counsel, 202-606-6892, dhilton@cns.gov.

SUPPLEMENTARY INFORMATION:

Background

Corporation for National and Community Service's current regulation on nonprocurement suspension and debarment is found in 45 CFR part 2542. This regulation is the Corporation for National and Community Service's promulgation of the governmentwide “common rule” on this subject, which was issued November 26, 2003 (68 FR 66586).

On August 31, 2005, the Office of Management and Budget (OMB) issued interim final guidance for governmentwide nonprocurement suspension and debarment (70 FR 51863). This guidance, located in 2 CFR part 180, is substantively the same as the common rule, but is published in a form that each agency can adopt, thus eliminating the need for each agency to publish its separate version of the same rule. It also facilitates the ability to update governmentwide requirements without each agency having to re-promulgate its own rules.

The Corporation for National and Community Service is therefore establishing new 2 CFR part 2200, which adopts as its regulation the OMB guidance set forth in 2 CFR part 180 as supplemented with the few required agency-specific provisions. Current 45 CFR part 2542 is being removed, and parts 2541 and 2545 are being amended to conform to the removal of part 2542.

No substantive change in Corporation for National and Community Service's nonprocurement suspension and debarment regulation is intended by these actions.

Executive Order 12866

OMB has determined this rule to be not significant.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by State, local, and tribal governments, in aggregate, or by the private sector of $100 million or more in any one year.

Paperwork Reduction Act of 1995 (44 U.S.C., Chapter 35)

This regulatory action will not impose any additional reporting or recordkeeping requirements under the Paperwork Reduction Act.

Federalism (Executive Order 13132)

This regulatory action does not have Federalism implications, as set forth in Executive Order 13132. It will not have substantial direct effects on the States, on the relationship between the national government and the States, or on the distribution of power and responsibilities among the various levels of government.

List of Subjects

2 CFR Part 2200

Administrative practice and procedure, Debarment and suspension, Grant programs, Reporting and recordkeeping requirements.

45 CFR Part 2541

Accounting, Grant programs, Indians, Intergovernmental relations, Reporting and recordkeeping requirements.

45 CFR Part 2542

Administrative practice and procedure, Debarment and suspension, Grant programs, Reporting and recordkeeping requirements.

45 CFR Part 2545

Administrative practice and procedure, Drug abuse, Grant programs, Reporting and recordkeeping requirements.

Accordingly, under the authority of 22 U.S.C. 2503(b), the Corporation for National and Community Service amends the Code of Federal Regulations, Title 2, Subtitle B, and Title 45, Chapter XXV, as follows:

Title 2—Grants and Agreements

1. Add Chapter XXII, consisting of part 2200, to Subtitle B to read as follows:

CHAPTER XXII—CORPORATION FOR NATIONAL AND COMMUNITY SERVICE

PART 2200—NONPROCUREMENT DEBARMENT AND SUSPENSION

Sec.
2200.10 What does this Part do?
2200.20 Does this Part apply to me?
2200.30 What policies and procedures must I follow?
2200.137 Who in the Corporation for National and Community Service may grant an exception to let an excluded person participate in a covered transaction?
2200.220 What contracts and subcontracts, in addition to those listed in 2 CFR 180.220, are covered transactions?
2200.332 What methods must I use to pass requirements down to participants at lower tiers with whom I intend to do business?
2200.437 What method do I use to communicate to a participant the requirements described in the OMB guidance at 2 CFR 180.435?

Authority: Sec. 2455, Pub. L. 103-355, 108 Stat. 3327; E.O. 12549, 3 CFR, 1986 Comp., p. 189; E.O. 12689, 3 CFR, 1989 Comp., p. 235; 22 U.S.C. 2503(b).

§ 2200.10 What does this Part do?

This Part adopts the Office of Management and Budget (OMB) guidance in Subparts A through I of 2 CFR part 180, as supplemented by this part, as the Corporation for National and Community Service policies and procedures for nonprocurement debarment and suspension. It thereby gives regulatory effect for the Corporation for National and Community Service to the OMB guidance as supplemented by this part. This Part satisfies the requirements in section 3 of Executive Order 12549, “Debarment and Suspension” (3 CFR 1986 Comp., p. 189), Executive Order 12689, “Debarment and Suspension” (3 CFR 1989 Comp., p. 235) and 31 U.S.C. 6101 note (Section 2455, Pub. L. 103-355, 108 Stat. 3327).

§ 2200.20 Does this Part apply to me?

This Part and, through this Part, pertinent portions of the OMB guidance in Subparts A through I of 2 CFR Part (see table at 2 CFR 180.100(b)) apply to you if you are a—

(a) Participant or principal in a “covered transaction.” (see Subpart B of 2 CFR part 180 and the definition of “nonprocurement transaction” at 2 CFR 180.970.

(b) Respondent in a Corporation for National and Community Service suspension or debarment action;

(c) Corporation for National and Community Service debarment or suspension official; or

(d) Corporation for National and Community Service grants officer, agreements officer, or other official authorized to enter into any type of nonprocurement transaction that is a covered transaction.

§ 2200.30 What policies and procedures must I follow?

The Corporation for National and Community Service policies and procedures that you must follow are the policies and procedures specified in each applicable section of the OMB guidance in Subparts A through I of 2 CFR part 180, as that section is supplemented by the section in this Part with the same section number. The contracts that are covered transactions, for example, are specified by section 220 of the OMB guidance (i.e., 2 CFR 180.220) as supplemented by section 220 in this Part (i.e., Sec. 2200.220). For any section of OMB guidance in Subparts A through I of 2 CFR part 180 that has no corresponding section in this part, Corporation for National and Community Service policies and procedures are those in the OMB guidance.

§ 2200.137 Who in the Corporation for National and Community Service may grant an exception to let an excluded person participate in a covered transaction?

The Chief Executive Officer (or another official designated by the Chief Executive Officer) has the authority to grant an exception to let an excluded person participate in a covered transaction, as provided in the OMB guidance at 2 CFR 180.135.

§ 2200.220 What contracts and subcontracts, in addition to those listed in 2 CFR 180.220, are covered transactions?

Although the OMB guidance at 2 CFR 180.220(c) allows a Federal agency to do so (also see optional lower tier coverage in the figure in the Appendix to 2 CFR part 180), Corporation for National and Community Service does not extend coverage of nonprocurement suspension and debarment requirements beyond first-tier procurement contracts under a covered nonprocurement transaction.

§ 2200.332 What methods must I use to pass requirements down to participants at lower tiers with whom I intend to do business?

You as a participant must include a term or condition in lower-tier transactions requiring lower-tier participants to comply with Subpart C of the OMB guidance in 2 CFR part 180.

§ 2200.437 What method do I use to communicate to a participant the requirements described in the OMB guidance at 2 CFR 180.435?

To communicate to a participant the requirements described in 2 CFR 180.435 of the OMB guidance, you as an agency official must include a term or condition in the transaction that requires the participant's compliance with subpart C of 2 CFR part 180, and requires the participant to include a similar term or condition in lower-tier covered transactions.

Title 45—Public Welfare

CHAPTER XXV—CORPORATION FOR NATIONAL AND COMMUNITY SERVICE

PART 2541—UNIFORM ADMINISTRATIVE REQUIREMENTS FOR GRANTS AND COOPERATIVE AGREEMENTS TO STATE AND LOCAL GOVERNMENTS

2. The authority citation for part 2541 continues to read as follows:

Authority: 42 U.S.C. 4950 et seq. and 12501 et seq.

3. Revise the introductory text to § 2541.30 to read as follows:

§ 2541.30 Definitions.

The following definitions apply to terms used in this part.

* * * * *

PART 2542—[REMOVED]

4. Remove part 2542.

PART 2545—GOVERNMENTWIDE REQUIREMENTS FOR DRUG-FREE WORKPLACE (FINANCIAL ASSISTANCE)

5. The authority citation for part 2545 continues to read as follows:

Authority: 41 U.S.C. 701, et seq.; 42 U.S.C. 12644 and 12651(c).

6. Revise § 2545.510 to read as follows:

§ 2545.510 What actions will the Federal Government take against a recipient determined to have violated this part?

If a recipient is determined to have violated this part, as described in § 2545.500 or § 2545.505, the Corporation may take one or more of the following actions—

(a) Suspension of payments under the award;

(b) Suspension or termination of the award; and

(c) Suspension or debarment of the recipient under 2 CFR part 180 (as implemented by 2 CFR part 2200), for a period not to exceed five years.

Dated: May 17, 2007.
Frank R. Trinity,
General Counsel.

[FR Doc. 07-2575 Filed 5-22-07; 8:45 am]

BILLING CODE 6050-$$-P